DEPARTMENT OF DEFENSE

GENERAL SERVICES ADMINISTRATION

NATIONAL AERONAUTICS AND SPACE ADMINISTRATION

[OMB Control No. 9000-0193; Docket No. 2016-0053; Sequence 33]

Submission for OMB Review; Prohibition on Contracting With Corporations With Delinquent Taxes or a Felony Conviction

AGENCY: Department of Defense (DOD), General Services Administration (GSA), and National Aeronautics and Space Administration (NASA).

ACTION: Notice.

SUMMARY: Under the provisions of the Paperwork Reduction Act, the Regulatory Secretariat Division has submitted to the Office of Management and Budget (OMB) a request to review and approve a new information collection requirement regarding Prohibition on Contracting with Corporations with Delinquent Taxes or a Felony Conviction. A notice and request for comments was published in the Federal Register at 80 FR 75903 on December 4, 2015, as part of an interim rule under FAR case 2015-011. No public comments were received on the information collection.

DATES: Submit comments on or before July 28, 2016.

ADDRESSES: Submit comments regarding this burden estimate or any other aspect of this collection of information, including suggestions for reducing this burden to: Office of Information and Regulatory Affairs of OMB, Attention: Desk Officer for GSA, Room 10236, NEOB, Washington, DC 20503. Additionally submit a copy to GSA by any of the following methods:

• Regulations.gov: http://www.regulations.gov. Submit comments via the Federal eRulemaking portal by searching OMB control number 9000-0193. Select the link “Comment Now” that corresponds with “Information Collection 9000-0193, “Prohibition on Contracting with Corporations with Delinquent Taxes or a Felony Conviction.” Follow the instructions provided on the screen. Please include your name, company name (if any), and “Information Collection 9000-0193, Prohibition on Contracting with Corporations with Delinquent Taxes or a Felony Conviction” on your attached document.

• Mail: General Services Administration, Regulatory Secretariat Division (MVCB), 1800 F Street NW., Washington, DC 20405. ATTN: Ms. Flowers/IC 9000-0193, Prohibition on Contracting with Corporations with Delinquent Taxes or a Felony Conviction.

Instructions: Please submit comments only and cite Information Collection 9000-0193, Prohibition on Contracting with Corporations with Delinquent Taxes or a Felony Conviction, in all correspondence related to this collection. Comments received generally will be posted without change to http://www.regulations.gov, including any personal and/or business confidential information provided. To confirm receipt of your comment(s), please check www.regulations.gov, approximately two to three days after submission to verify posting (except allow 30 days for posting of comments submitted by mail).

FOR FURTHER INFORMATION CONTACT: Ms. Cecelia L. Davis, Procurement Analyst, Federal Acquisition Policy Division, GSA, at 202-501-1448 or email cecelia.davis@gsa.gov.

SUPPLEMENTARY INFORMATION:

A. Purpose

Offerors responding to a Federal solicitation are required to make a representation regarding whether the offeror is a corporation with a delinquent tax liability or a felony conviction under Federal law, as required by section 744 and 745 of Division E of the Consolidated and Further Continuing Appropriations Act, 2015 (Pub. L. 113-235).

When an offeror provides an affirmative response in paragraph (c)(1) or (2) to the representation, the contracting officer is required to request additional information from the offeror and notify the agency official responsible for initiating debarment or suspension action. The contracting officer shall not make an award to the corporation unless the agency suspending or debarring official has considered suspension or debarment of the corporation and determined that this further action is not necessary to protect the interests of the Government.

This rule also added a certification requirement regarding tax matters, in solicitations for which the resultant contract (including options) may have a value greater than $5,000,000, and that will use funds made available by section 523 of the Commerce, Justice, Science, and Related Agencies Appropriations Act, 2014 (Division B) of Public Law 113-235, or under subsequent appropriations acts that contain the same provisions.

Agencies funded by these acts include the Department of Commerce, the Department of Justice, NASA, as well as some smaller agencies.

If the certification regarding tax matters is applicable, then the contracting officer shall not award any contract in an amount greater than $5,000,000, unless the offeror affirmatively certified in its offer to all the required certifications regarding tax matters in 52.209-XX(c) or 52.212-3(q)(3).

B. Annual Reporting Burden

Needs and Uses: This requirement provides for the collection of information required to implement sections 744 and 745 of Division E of the Consolidated and Further Continuing Appropriations Act, 2015 (Pub. L. 113-235) and section 523 of Division B of the same act.

Affected Public: Businesses or other for-profit and not-for-profit institutions.

Frequency: On occasion.

Number of Respondents: 352,000.

Responses per Respondent: 1.01 (approximately).

Annual Responses: 356,840.

Average Burden per Response: .1.

Annual Burden Hours: 35,684.

Obtaining Copies of Proposals: Requesters may obtain a copy of the information collection documents from the General Services Administration, Regulatory Secretariat Division (MVCB), 1800 F Street NW., Washington, DC 20404, telephone 202-501-4755.

Please cite OMB Control No. 9000-0193, Prohibition on Contracting with Corporations with Delinquent Taxes or a Felony Conviction, in all correspondence.

Dated: June 22, 2016.
Lorin S. Curit,
Director, Federal Acquisition Policy Division, Office of Government-wide Acquisition Policy, Office of Acquisition Policy, Office of Government-wide Policy.

[FR Doc. 2016-15204 Filed 6-27-16; 8:45 am]

BILLING CODE 6820-EP-P